DEPARTMENT OF HEALTH AND HUMAN SERVICES

Administration for Children and Families

Submission for OMB Review; Comment Request

Title: Assets for Independence (AFI) Program Evaluation.

OMB No.: 0970-0414.

Description: The U.S. Department of Health and Human Services, Administration for Children and Families (ACF) is proposing a data collection activity as part of an experimental evaluation of the Assets for Independence (AFI) Program. The purpose of this study is to assess the impact of participation in AFI-funded individual development account (IDA) projects on the savings, asset purchases, and economic well-being of low-income individuals and families. While some evaluations suggest that IDAs help low-income families save, rigorous experimental research is limited. Few studies have focused on AFI-funded IDAs, and few have tested alternative design features. The Assets for Independence Evaluation is the first experimental evaluation of IDA projects operating under the Assets for Independence Act, and will contribute importantly to understanding the effects of IDA project participation on project participants. The evaluation was launched in fall 2011 in two sites, with the random assignment of AFI-eligible cases to program and control groups. OMB approved three data collection efforts related to this project in October 2012, including approval of a baseline survey, 12-month follow-up survey, and implementation study protocols.

This Federal Register Notice provides the opportunity to comment on a proposed new information collection activity: The AFI Evaluation second follow-up survey (at 36 months post-random assignment) of both treatment and control group members. The content of this survey is the same as the content approved for the 12-month follow-up. The purpose of the AFI Evaluation 36-month follow-up survey is to follow-up with study participants to document their intermediate savings and savings patterns, asset purchases, and other economic outcomes. The evaluation consists of both an impact study and an implementation study. Data collection activities will span a three-year period. Data collection activities to submit in a future information collection request include a third follow-up survey for AFI Evaluation study participants approximately 60 months after study enrollment.

Respondents: Individuals enrolled in AFI programs, individuals who have left AFI programs, and control group members.

Annual Burden Estimates
Instrument | Total number of respondents | Annual number of respondents | Number of responses per respondent | Average burden hours per response | Annual burden hours
Follow-Up Survey: AFI-eligible participants | 814 | 271 | 1 | 1 | 271

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2015-22014 Filed 9-3-15; 8:45 am]

BILLING CODE 4184-26-P